FEDERAL COMMUNICATIONS COMMISSION

47 CFR Part 20

[WT Docket No. 20-3; FCC 21-28; FR ID-55565]

Standards for Hearing Aid-Compatible Handsets

AGENCY: Federal Communications Commission.

ACTION: Final rule; announcement of effective date.

SUMMARY: The Federal Communications Commission (Commission) announces that the Office of Management and Budget (OMB) has approved, for a period of three years, the information collection requirements associated with the amendment of the Commission's rules governing standards for hearing aid-compatible handsets. This document is consistent with the Report and Order, which stated that the Commission would publish a document in the Federal Register announcing OMB approval and the effective date of the information collection requirements.

DATES: The rule amendments contained in 47 CFR 20.19(f), (h)(1), and (i), published at 86 FR 23614, May 4, 2021, are effective on November 4, 2021.

FOR FURTHER INFORMATION CONTACT: For additional information contact Cathy Williams, at (202) 418-2918 or via email: Cathy.Williams@fcc.gov.

SUPPLEMENTARY INFORMATION: This document announces that, on October 19, 2021, OMB approved the information collection requirements contained in the Commission's Report and Order, FCC 21-28, published at 86 FR 23614, May 4, 2021. The OMB Control Number is 3060-0999. The Commission publishes this document as an announcement of the effective date of the information collection requirements.

Synopsis

As required by the Paperwork Reduction Act of 1995 (44 U.S.C. 3507), the Commission is notifying the public that it received OMB approval on October 19, 2021, for the information collection requirements contained in the revisions to § 20.19(f), (h)(1), and (i).

No person shall be subject to any penalty for failing to comply with a collection of information subject to the Paperwork Reduction Act that does not display a current, valid OMB Control Number. The OMB Control Numbers is 3060-0999.

The foregoing is required by the Paperwork Reduction Act of 1995, Public Law 104-13, October 1, 1995, and 44 U.S.C. 3507.

The total annual reporting burdens and costs for the respondents are as follows:

OMB Control No.: 3060-0999.

OMB Approval Date: October 19, 2021.

OMB Expiration Date: October 31, 2024.

Title: Hearing Aid Compatibility Status Report and Section 20.19, Hearing Aid-Compatible Mobile Handsets (Hearing Aid Compatibility Act).

Form Numbers: FCC Form 655 and FCC Form 855.

Respondents: Business or other for-profit entities.

Number of Respondents and Responses: 934 respondents; 934 responses.

Estimated Time per Response: 13.9710921 hours per response (average).

Frequency of Response: On occasion and annual reporting requirements, recordkeeping requirements, and third-party disclosure requirements.

Obligation to Respond: Required to obtain or retain benefits. Statutory authority for this information collection is contained in 47 U.S.C. 151, 154(i), 157, 160, 201, 202, 214, 301, 303, 308, 309(j), 310, and 610 of the Communications Act of 1934, as amended.

Total Annual Burden: 13,049 hours.

Total Annual Cost: No cost.

Needs and Uses: The changes to the information collection concern the Commission's wireless hearing aid compatibility rules as they relate to the obligations of wireless handset manufacturers and wireless service providers to: (1) Label and disclose certain information related to handset packaging; (2) post certain information on their publicly accessible websites; and (3) file annual status reports and certification. No changes were made to the information collection as related to standards development and the approved number of estimated respondents and responses.

The revisions to the information collection were necessitated by a Report and Order in WT Docket No. 20-3, FCC 21-28, adopted on February 16, 2021, published at 86 FR 23614, May 4, 2021. In the Report and Order, the Commission adopted a new technical standard for determining hearing aid compatibility between hearing aids and wireless handsets and made other corresponding and implementation changes. In addition, the Commission revised the information that handset manufacturers and service providers must include on hearing aid-compatible wireless handset package labels and in the related package inserts or user manuals. The Commission revised the labeling rule to streamline the rule and remove outdated requirements. The new rule requires that the package label provide the volume control capabilities of a hearing aid-compatible handset that meets volume control requirements, and it maintains the requirement that a hearing aid-compatible handset's package label state that the handset is hearing aid-compatible. The new rule still requires hearing aid-compatible handsets to list the handset's hearing aid-compatible rating but moves the location in which it is required to be listed from the package label to the package insert or user manual. The other requirements for package inserts and user manuals have not changed, but the requirements have been reorganized to make them easier to follow. The Commission's labeling revisions continue to allow consumers to access the information that they need to understand the hearing aid compatibility of handsets they are considering for purchase. At the same time, the labeling revisions give handset manufacturers and service providers flexibility in designing package labels and conveying supplemental information.

The Report and Order also revised website posting requirements for handset manufacturers and service providers. The revised rule requires handset manufacturers and service providers to post to their publicly accessible websites the technical standard used to determine hearing aid compatibility in addition to the information that handset manufacturers and service providers are presently required to post. Further, the website posting requirement has been revised to eliminate the requirement that service providers post to their publicly accessible websites the different levels of functionality of the hearing aid-compatible handsets that they offer to the public. This change offsets any burden added by the requirement that service providers post the technical standard used to determine hearing aid compatibility.

Finally, the Report and Order addressed the status reporting and certification requirements for handset manufacturers and service providers. The Report and Order revised the dates that service providers must file their FCC Form 855 certifications and handset manufacturers must file their FCC Form 655 status reports. The forms were due January 15 and July 15 each year, respectfully, and now are due by January 31 and July 31. These changes were made to accommodate Federal holidays at the start of January and July and to make sure the forms contain information for the full preceding 12- month periods. The Commission uses these forms as the principal way to ensure compliance with its wireless hearing aid compatibility requirements. The Commission also revised the forms to reflect the Commission's current hearing aid compatibility de minimis provisions and to reflect the Commission's new mailing address.

The changes that the Commission made to the wireless hearing aid compatibility information collection benefit handset manufacturers and service providers by reducing regulatory burden while continuing to ensure that the Commission can fulfill its statutory obligation to monitor compliance with its hearing aid compatibility rules and make more complete and accessible information available to consumers.

Federal Communications Commission.
Katura Jackson,
Federal Register Liaison Officer.

[FR Doc. 2021-23845 Filed 11-3-21; 8:45 am]

BILLING CODE 6712-01-P